DEPARTMENT OF HEALTH AND HUMAN SERVICES

Administration for Children and Families

Proposed Information Collection Activity; Administration for Children and Families Generic for Information Collections Related to Gatherings (New Collection)

AGENCY: Office of Planning, Research, and Evaluation, Administration for Children and Families, United States Department of Health and Human Services.

ACTION: Request for public comments.

SUMMARY: The Administration for Children and Families (ACF) at the U.S. Department of Health and Human Services intends to request approval from the Office of Management and Budget (OMB) for a generic clearance to request information from potential participants at ACF gatherings, such as meetings or conferences. The planning for these gatherings is most often on a quick timeline and the standard timeline to comply with a full request under the Paperwork Reduction Act (PRA) would inhibit the ability to collect information to inform these activities. Therefore, an umbrella generic is requested to allow for quick turnaround requests for similar information collections related to these activities.

DATES: Comments due within 60 days of publication. In compliance with the requirements of the PRA, ACF is soliciting public comment on the specific aspects of the information collection described above.

ADDRESSES: You can obtain copies of the proposed collection of information and submit comments by emailing OPREinfocollection@acf.hhs.gov. Identify all requests by the title of the information collection.

SUPPLEMENTARY INFORMATION:

Description: ACF hosts a variety of gatherings for many different purposes. This may include large scale conferences, meetings for grantees or contractors, workshops, trainings, poster sessions, and other in-person and virtual gatherings for individuals with interest in ACF programs (clients, researchers, policymakers, etc.), among others. To ensure ACF has adequate information to plan these activities, the Agency must often collect information from potential participants such as basic contact information, preferences for attendance (mode, special requests, etc.), organizational affiliation, feedback about meeting content, etc. Additionally, some activities require ACF to have additional information to have the means to select the most appropriate participants for attendance according to the type or purpose of a given activity, or to group participants into the most appropriate category or activity during an event. This may include information about poster presentations, speaking panels, training courses, professional perspectives, or experiences, etc. In addition, attendees may be asked to submit an application or abstract for prescreening to be selected for attendance.

The purposes of the collections under this umbrella generic information collection are to gather appropriate information to plan ACF gatherings. Example information collection activities could include:

• Registration forms:

○ Information collected on these types of forms could include name, contact information, organization/affiliation, basic demographics, attendance needs, etc.

• Applications for panels, posters, or other presentation formats:

○ Information collected on these types of applications could include title, author(s), institution/organization, abstract describing presentation or poster, instructions, etc.

• Pre-meeting surveys:

○ Information collected on these types of surveys could include content preferences, scheduling needs and preferences, pre-meeting knowledge, etc.

• Post-Meeting/-Workshop/-Training Evaluation Surveys:

○ Information collected on these types of surveys could include requests for feedback on the overall activity, feedback on content, post-meeting knowledge, post-meeting uses of content, preferences for future activities, etc.

As part of this generic, ACF requests OMB provide a response on individual generic information collections within 5 business days.

Note that this generic is primarily for information collected in connection with closed ACF meetings, as information collected in connection with public ACF meetings are not considered “information” under PRA per 44 U.S.C., 5 CFR Ch. 11 (1-1-99 Edition), 1320.3: Definitions.

Respondents: Potential respondents may include researchers, individuals with expertise in ACF program areas, individuals with interest in ACF program areas, those receiving ACF services, ACF grantees or contractors, among others with involvement or interest in ACF activities.

Total Burden Estimates
Example types of information collections | Total number of respondents | Total number of responses per respondent | Average burden hours per response | Total burden hours | Average hourly wage | Total annual cost
Registration Forms | 30,000 | 1 | .167 | 5010 | $64 | $320,640
Applications | 5000 | 1 | 1.5 | 7500 | 64 | 480,000
Pre- and Post-activity Surveys | 20,000 | 1 | .5 | 10000 | 64 | 640,000
Other Activities | 14,000 | 1 | .5 | 7000 | 64 | 448,000
Estimated Totals | 69,000 |  | .428 (average) | 29,510 |  | 1,888,640

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2023-11571 Filed 5-31-23; 8:45 am]

BILLING CODE 4184-79-P